DEPARTMENT OF HOUSING AND URBAN DEVELOPMENT

[Docket No. FR-4579-FA-01]

Announcement of Funding Awards—Fiscal Year 1999; Office of Troubled Agency Recovery; Cooperative Agreements

AGENCY: Office of Public and Indian Housing, HUD.

ACTION: Announcement of funding awards.

SUMMARY: In accordance with section 102 (a)(4)(C) of the Department of Housing and Urban Development Reform Act of 1989, this announcement notifies the public of funding decisions made by the Department from funds distributed to the Office of Troubled Agency Recovery during Fiscal Year 1999. This announcement contains the name and address of all awardees and the amount of each award.

FOR FURTHER INFORMATION CONTACT: Kathryn Edgar, Department of Housing and Urban Development, 451 Seventh Street, SW, Washington, DC 20410, telephone (202) 708-1141 (this is not a toll-free number). Persons with hearing or speech impairments may access that number via TTY by calling the Federal Information Relay Service 1-800-877-8339.

SUPPLEMENTARY INFORMATION: The Cooperative Agreement with each of the following recipients was issued pursuant to Section 6(j) of the United States Housing Act of 1937. The awards will be used to provide technical assistance to support troubled agency recovery efforts and funding assistance as necessary to remedy the substantial deterioration of living conditions in public housing or other related emergencies that endanger the health, safety, and welfare of the residents.

The Catalog of Federal Domestic Assistance number for this program is 14.859.

In accordance with section 102 (a)(4)(C) of the Department of Housing and Urban Development Reform Act of 1989 (103 Stat. 1987, 42 U.S.C. 3545), the Department is publishing the name, address, and amount of each award as follows:

Fiscal Year 1999 Troubled Agency Recovery Recipients of Funding Decisions
Awardee | Amount
Mobile County Housing Authority, P.O. Box 303, Citronelle, AL 36522-0309 | $20,000
New Haven Housing Authority, 360 Orange Street, New Haven, CT 06501 | $577,500
New London Housing Authority, 78 Walden Avenue, New London, CT 06320 | $259,220
Sarasota Housing Authority, 1300 Sixth Street, Sarasota, FL 34236 | $50,000 & $45,000
Venice Housing Authority, 201 North Strove Street, Venice, FL 34292 | $8,010
Housing Authority of the City of Alma, 401 East Twelfth Street, P.O. Box 190, Alma, GA 31510-0190 | $30,000
Housing Authority of the City of Greenville, P.O. Box 83, Greenville, GA 30222-0083 | $5,000
City Of Topeka Housing Authority, 2101 Southeast California, Topeka, KS 66607 | $40,000
Tulane University (Campus Affiliates Program), Tulane-Xavier National Center for the Urban Community, 31 McAlister, New Orleans, LA 70118-5698 | $2,000,000
Dracut Housing Authority, 971 Mammoth Road, Dracut, MA 01826 | $15,000
Muskegon Housing Commission, 1823 Commerce Street, Muskegon, MI 49440 | $5,000
Muskegon Heights Housing Commission, 615 East Hovey Avenue, Muskegon Heights, MI 49444 | $495,000
Hayti Heights Housing Authority, 100 North Martin Luther King Drive, Hayti Heights, MO 63851 | $106,800
Housing Authority of Kansas City, 299 Paseo, Kansas City, MO 64106 | $425,000
Marionville Housing Authority, 105 East O'Dell, Marionville, MO 65705 | $15,000 & $5,000
St. Louis Housing Authority, 4100 Lindell Boulevard, Saint Louis, MO 63108 | $200,000
Sainte Genevieve Housing Authority, 225 St. Joseph Street, St. Genevieve, MO 63670 | $9,000
Wellston Housing Authority, 1584 Ogdon Avenue, Wellston, MO 63112 | $6,500
Bellevue Housing Authority, 8214 Armstrong Circle, Bellevue, NE 68147 | $9,500
Greeley Housing Authority, P.O. Box 219, Greeley, NE 68842 | $4,675
North Platte Housing Authority, 900 Autumn Park Drive, North Platte, NE 69101 | $8,500
Rensselaer Housing Authority, 85 Aiken Avenue, Rensselaer, NY 12144 | $40,000
Clinton Metropolitan Housing Authority, 478 Thorne Avenue, Wilmington, OH 45177 | $40,000
Springfield Metropolitan Housing Authority, 437 East John, Springfield, OH 45505 | $200,000 & $165,000
Waynoka Housing Authority, P.O. Box 183, Waynoka, OK 73860 | $4,900
Bellville Housing Authority, P.O. Box 247, Bellville, TX 77418 | $12,000
Orange County Housing Authority, 205 Vidor, Vidor, TX 77662 | $40,000

Dated: March 20, 2000.
Harold Lucas,
Assistant Secretary for Public and Indian Housing.

[FR Doc. 00-7367 Filed 3-24-00; 8:45 am]

BILLING CODE 4210-33-P